DEPARTMENT OF HEALTH AND HUMAN SERVICES

Health Resources and Services Administration

Meeting of the National Advisory Council on Migrant Health; Amended Notice of Meeting

AGENCY: Health Resources and Services Administration (HRSA), Department of Health and Human Services.

ACTION: Notice; amended notice of meeting.

SUMMARY: HRSA published a notice in the Federal Register of July 23, 2024, concerning a meeting of the National Advisory Council on Migrant Health on October 22, 2024, and October 23, 2024. The notice states the meeting will be held in-person and via webinar. However, due to the impact of recent hurricanes on council members, this meeting now will be held via webinar only on Zoom.

FOR FURTHER INFORMATION CONTACT: Liz Rhee, National Advisory Council on Migrant Health Designated Federal Official, Office of Policy and Program Development, Bureau of Primary Health Care, HRSA, 5600 Fishers Lane, Rockville, MD 20857; 301-443-1082 or hrsabphcoppdnacmh@hrsa.gov.

SUPPLEMENTARY INFORMATION:

Amended Notice of Meeting

In the Federal Register Notice of July 23, 2024, FR Doc. 2024-16119, page 59744, column 1, section 2, paragraph 3, amend the sentences “This meeting will be held in-person and via webinar. The address of the meeting is 5600 Fishers Lane, Rockville, MD 20857” to read: “This meeting will be held via webinar only.” In paragraph 8, delete the following sentences: “Since this meeting occurs in a federal government building, attendees must go through a security check to enter the building. Non-U.S. citizen attendees must notify HRSA of their planned attendance at least 20 business days prior to the meeting to facilitate their entry into the building. All attendees are required to present government-issued identification prior to entry.”

Amy P. McNulty,
Deputy Director, Executive Secretariat.

[FR Doc. 2024-24165 Filed 10-17-24; 8:45 am]

BILLING CODE 4165-15-P